DEPARTMENT OF THE INTERIOR

Bureau of Land Management

[AZ-320-05-1430-ES; AZA 32644]

Recreation and Public Purposes (R&PP) Act Classification; Lease and/or Conveyance of Public Lands in La Paz County, AZ

AGENCY: Bureau of Land Management (BLM), Interior.

ACTION: Notice of realty action.

SUMMARY: The BLM has examined and found suitable for classification for lease and/or conveyance under the provisions of the Recreation and Public Purposes (R&PP) Act approximately 60 acres of public land in La Paz County, Arizona. The realty would be acquired for community college purposes.

DATES: Comments regarding the proposed lease and/or conveyance or classification must be received by BLM on or before May 26, 2005.

ADDRESSES: Comments should be sent to the BLM, Yuma Field Office Manager, 2555 E. Gila Ridge Road, Yuma, Arizona 85365.

FOR FURTHER INFORMATION CONTACT: Francisca S. Rodriguez, Realty Specialist, at the address above or by telephone at (928) 317-3237.

SUPPLEMENTARY INFORMATION: The following described public land in La Paz County, Arizona, has been examined and found suitable for classification for lease and/or conveyance under the provisions of the R&PP Act, as amended (43 U.S.C. 869 et seq.), and is hereby classified accordingly:

Gila and Salt River Meridian, La Paz County, Arizona

T. 4 N., R. 19 W.,

sec. 21, NW¼NW¼ and N½SW¼NW¼.

The area described contains 60 acres.

The Yuma/La Paz Counties Community College District, also known as Arizona Western College, has filed an application under the R&PP Act in which it is proposed to use the above-described land as the site for a public educational facility.

The above-described public land is not required for any Federal purpose. Lease and/or conveyance is consistent with the existing BLM plan for the area (designated as the Yuma District Resource Management Plan, as amended) and would be in the public's interest. The lease and/or conveyance will be subject to the following terms, conditions, and reservations:

1. The provisions of the R&PP Act and all applicable regulations of the Secretary of the Interior.

2. All valid existing rights.

3. All minerals are reserved to the United States, together with the right to prospect for, mine, and remove the minerals under applicable laws and regulations established by the Secretary of the Interior.

4. Terms, covenants and conditions identified through the applicable environmental analysis.

5. Any other terms or reservations that the authorized officer determines appropriate to ensure public access and the proper use and management of the realty and any interest therein. Detailed information concerning the foregoing is available for review at the BLM, Yuma Field Office, 2555 E. Gila Ridge Road, Yuma, Arizona.

On April 11, 2005, the lands will be segregated from all other forms of appropriation under the public land laws, including the general mining laws, except for lease and/or conveyance under the R&PP Act and leasing under the mineral leasing laws.

Classification Comments: Interested parties may submit comments involving the suitability of the lands for an educational facility. Comments on the classification are restricted to whether the lands are physically suited for the proposal, whether the use is consistent with local planning and zoning, or if the use is consistent with State and Federal programs.

Application Comments: Interested parties may submit comments regarding the specific use proposed in the application and plan of development, whether the BLM followed proper administrative procedures in reaching the decision, or any other factor not directly related to the suitability of the lands for an educational facility.

Any adverse comments will be reviewed by the BLM Arizona State Director. In the absence of any adverse comments, the classification will become effective on June 10, 2005.

Dated: March 16, 2005.
Rebecca Heick,
Field Manager, Yuma.

[FR Doc. 05-7115 Filed 4-8-05; 8:45 am]

BILLING CODE 4310-32-P